DEPARTMENT OF HEALTH AND HUMAN SERVICES

National Institutes of Health

National Institute on Drug Abuse; Amended Notice of Meeting

Notice is hereby given of a change in the meeting of the National Advisory Council on Drug Abuse, February 9, 2021, 11:00 a.m. to February 9, 2021, 4:30 p.m., National Institutes of Health, National Institute on Drug Abuse, 301 North Stonestreet Avenue, Bethesda, MD 20892 which was published in the Federal Register on December 29, 2020, 85 FR 85652.

This notice is being amended to change the start and end times of the closed session from 11:00 a.m.-12:45 p.m. to 10:45 a.m.-12:30 p.m. on February 9, 2021. The meeting is partially closed to the public.

Dated: January 21, 2021.
Melanie J. Pantoja,
Program Analyst, Office of Federal Advisory Committee Policy.

[FR Doc. 2021-01709 Filed 1-26-21; 8:45 am]

BILLING CODE 4140-01-P